DEPARTMENT OF THE TREASURY

Office of Thrift Supervision

[AC-2: OTS Nos. H-2250 and 06817]

Jefferson Bancshares, MHC and Jefferson Federal Savings and Loan Association of Morristown, Morristown, TN; Approval of Conversion Application

Notice is hereby given that on May 14, 2003, the Director, Supervision Policy, Office of Thrift Supervision (OTS), or her designee, acting pursuant to delegated authority, approved the application of Jefferson Bancshares, MHC and Jefferson Federal Savings and Loan Association of Morristown, both in Morristown, Tennessee, to convert to the stock form of organization. Copies of the application are available for inspection by appointment (phone number: 202-906-5922 or e-mail: Public.Info@OTS.Treas.gov) at the Public Reading Room, OTS, 1700 G Street, NW., Washington, DC 20552, and the OTS Midwest Regional Office, 225 E. John Carpenter Freeway, Suite 500, Irving, Texas 75062-2326.

Dated: May 19, 2003.
By the Office of Thrift Supervision.
Nadine Y. Washington,
Corporate Secretary.

[FR Doc. 03-12902 Filed 5-22-03; 8:45 am]

BILLING CODE 6720-01-M